DEPARTMENT OF ENERGY

Federal Energy Regulatory Commission

[Docket No. CP21-14-000]

Adelphia Gateway, LLC; Notice of Availability of the Final Environmental Impact Statement for the Proposed Marcus Hook Electric Compression Project

The staff of the Federal Energy Regulatory Commission (FERC or Commission) has prepared a final environmental impact statement (EIS) for the Marcus Hook Electric Compression Project, proposed by Adelphia Gateway, LLC (Adelphia) in the above-referenced docket. Adelphia requests authorization to construct and operate certain natural gas compression facilities in order to increase the certificated capacity of Adelphia's pipeline system to provide an additional 16,500 dekatherms per day of firm transportation service for a new shipper on Adelphia's system.

The final EIS responds to comments that were received on the Commission's February 9, 2021 Environmental Assessment (EA) and June 17, 2021 draft EIS ¹ and discloses downstream greenhouse gas emissions for the Project. With the exception of climate change impacts, the FERC staff concludes that approval of the proposed project, with the mitigation measures recommended in the EIS, would not result in significant environmental impacts. FERC staff continues to be unable to determine the significance of the Project's contribution to climate change.

¹ The Project's EA is available on FERC's eLibrary under accession no. 20210209-3004 and the draft EIS is available under accession no. 20210617-3051.

The final EIS incorporates and appends the above referenced EA, which addressed the potential environmental effects of the construction and operation of the following Project facilities at the existing Marcus Hook Compressor Station in Delaware County, Pennsylvania:

• An electric motor-driven 3,000-horsepower (hp) compressor unit;

• one horizontal process gas cooler with two 25-hp electric-driven motors;

• two variable frequency drives; and

• a motor control center assembly to control the electric compressor engine from a central location.

The Commission mailed a copy of the Notice of Availability of the Final Environmental Impact Statement for the Marcus Hook Electric Compressor Station Project to federal, state, and local government representatives and agencies; elected officials; environmental and public interest groups; Native American tribes; potentially affected landowners and other interested individuals and groups; and newspapers and libraries in the project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search), select “General Search”, and enter the docket number in the “Docket Number” field, excluding the last three digits (i.e. CP21-14). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: October 5, 2021.
Kimberly D. Bose,
Secretary.

[FR Doc. 2021-22123 Filed 10-8-21; 8:45 am]

BILLING CODE 6717-01-P